DEPARTMENT OF TRANSPORTATION

Federal Aviation Administration

Public Notice for Waiver of Aeronautical Land-Use Assurance

AGENCY: Federal Aviation Administration (FAA), DOT.

ACTION: Notice of intent of waiver with respect to land; Cleveland Hopkins International, Cleveland, Ohio.

SUMMARY: The FAA is considering a proposal to change approximately 0.29 acres of airport land from aeronautical use to non-aeronautical use and to authorize the sale of airport property located at Cleveland Hopkins International, Cleveland, Ohio. The aforementioned land is not needed for aeronautical use.

The property is located at the Cleveland Business Park (Phase-11) near the intersections of Cleveland Business Park Drive West, Springdale Avenue, and West 192th Street. Property is located northeast of the airport and outside the airport fence line. The 3 parcels totaling 0.29 acres were not included in a previous land release of approximately 48.38 acres, which was formalized in 2000 because they were not owned by the City of Cleveland. Subsequently the City of Cleveland acquired the 3 parcels. The parcels are not being used by the airport. The property will be sold for the development of the Cleveland Business Park.

DATES: Comments must be received on or before August 7, 2014.

ADDRESSES: Documents are available for review by appointment at the FAA Airports District Office, Marlon Peña, Program Manager, Detroit Airport District Office, 11677 South Wayne Road, Suite 107, Romulus, Michigan 48174, Telephone: (734) 229-2909/Fax: (734) 229-2950 and Cleveland Hopkins International Airport, 5300 Riverside Drive, Cleveland, Ohio 44181, Telephone: (216) 265-6793.

Written comments on the Sponsor's request must be delivered or mailed to: Marlon Peña, Program Manager, Federal Aviation Administration, Airports District Office, Detroit Airport District Office, 11677 South Wayne Road, Suite 107, Romulus, Michigan 48174, Telephone Number: (734) 229-2909/FAX Number: (734) 229-2950.

FOR FURTHER INFORMATION CONTACT: Marlon Peña, Program Manager, Federal Aviation Administration, Airports District Office, Detroit Airport District Office, 11677 South Wayne Road, Suite 107, Romulus, Michigan 48174. Telephone Number: (734) 229-2909/FAX Number: (734) 229-2950.

SUPPLEMENTARY INFORMATION: In accordance with section 47107(h) of Title 49, United States Code, this notice is required to be published in the Federal Register 30 days before modifying the land-use assurance that requires the property to be used for an aeronautical purpose.

The property was originally acquired by the City of Cleveland for potential airport development. The Federal Aviation Administration participated in the acquisition of this property under FAA project Numbers AIP 3-39-0023-29 and AIP 3-39-0023-31. The U.S. Government did not convey the property or transfer under surplus property. The sponsor is now proposing to sell this property for Fair Market Value and utilize the proceeds to help improve the existing airport infrastructure and bring it up to FAA standards.

The disposition of proceeds from the sale of the airport property will be in accordance with FAA's Policy and Procedures Concerning the Use of Airport Revenue, published in the Federal Register on February 16, 1999 (64 FR 7696).

This notice announces that the FAA is considering the release of the subject airport property at the Cleveland Hopkins International, Cleveland, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Following is a legal description of the property is located in the City of Cleveland, County of Cuyahoga, State of Ohio, and known as being part of Cleveland Business Park development and described as follows:

Parcel Number 029-17-011

Situated in the City of Cleveland, County of Cuyahoga and the State of Ohio and known as being Sublot No. 94 in the Conger-Helper Realty Company's Home Gardens Allotment No. 2 of part of Original Rockport Sections Nos. 3 and 4, as shown by the recorded plat in Volume 67 of maps, page 35 of Cuyahoga County Records, and that portion of Springdale Ave. SW., 50 feet wide, Vacated by Ordinance No. 521-200, and together forming a parcel and being 40 feet front on the Centerline of said Vacated Springdale Avenue SW., and extending back between parallel lines of equal width, 170 feet, be the same more or less, but subject to all legal highways. Excepting there from, that dedicated portion of Cleveland Parkway SW., as shown in the Dedication Plat recorded in Volume 339, Page 42 of Cuyahoga County Records.

Parcel Number 029-18-035

PROPERTY ADDRESS: 19033 SPRINGDALE AVENUE, CLEVELAND, OHIO 44135 Situated in the City of Cleveland, County of Cuyahoga and State of Ohio and known as being Sublot No. 112 in the Conger-Helper Realty Company's Home Gardens Allotment No, 2 of part of original Rockport Township Section Nos. 3 and 4, as shown by the recorded plat in Volume 67 of Maps, Page 35 of Cuyahoga County Records, and that portion of Springdale Ave. SW., 50 feet wide, Vacated by Ordinance No. 521-200 and together forming a parcel land being 40 feet front on the centerline of said Vacated Springdale Ave. SW. and extending back between parallel lines of equal width, 182.70 feet, be the same more or less, but subject to all legal highways.

Parcel Number 029-19-067

Situated in the City of Cleveland, the County of Cuyahoga and the State of Ohio and known as being part of Sublot No. 58 in the Conger-Helper Realty Company's Home Garden Allotment No. 2 of part of Original Rockport Township Section Nos. 3 and further bounded and described as Follows; Beginning at an iron pin in a monument box at the intersection of the centerline of Rocky River Drive (width varies', and the centerline of Cleveland Parkway SW. (width varies) as shown on the Dedication Plat recorded in Volume 339, Page 42 of Cuyahoga County Map Records; Thence North 89°14′41″ West along the centerline of Cleveland Parkway SM., 282.17 feet to a point; 'Thence South 01°46′09″ West, 42.01 feet to the southerly right of way of Cleveland Parkway SW., and being the Principal Place of Beginning of the premises herein described; Thence South 01°46′09″ West, 97.77 feet to a point on the centerline of Springdale Avenue, as vacated by Ordinance No. 2.0521-2000; Thence North 89°12′38″ West along the centerline of vacated Springdale Avenue, 10.00 feet; Thence North 01°46′09″ East, 97.77 feet to the southerly right of way of Cleveland Parkway SW.: Thence South 89°14′41″ East along the southerly line of Cleveland Parkway SW., 10,00 feet to the Principal Place of Beginning and containing 0.0224 acres of land.

Description for the Above Parcel Is Based on Riversitone Registered Surveyor No. 6747

This property contains approximately 0.29 acres.

Issued in Romulus, Michigan, on June 5, 2014.
John L. Mayfield, Jr.,
Manager, Detroit Airports District Office, FAA, Great Lakes Region.

[FR Doc. 2014-15923 Filed 7-7-14; 8:45 am]

BILLING CODE 4910-13-P